SMALL BUSINESS ADMINISTRATION

[Declaration of Disaster #3634]

Commonwealth of Puerto Rico; Amendment #2

In accordance with a notice received from the Department of Homeland Security—Federal Emergency Management Agency—effective September 29, 2004, the above numbered declaration is hereby amended to include the Municipality of Fajardo as a disaster area due to damages caused by Tropical Storm Jeanne. All other municipalities contiguous to the above named primary municipality have previously been declared.

In addition, Adjuntas, Aguada, Aguadilla, Aguas Buenas, Aibonito, Arecibo, Arroyo, Barceloneta, Caguas, Camuy, Cayey, Cidra, Comerio, Corozal, Culebra, Guaynabo, Hatillo, Hormigueros, Humacao, Jayuya, Las Marias, Las Piedras, Luquillo, Manati, Maricao, Maunabo, Morovis, Naguabo, Orocovis, Patillas, Quebradillas, Rincon, Santa Isabel, Trujillo Alto Municipalities, Utuado, Vieques, Villalba, and Yabucoa Municipalities in the Commonwealth of Puerto Rico are also eligible under Public Assistance and our disaster loan program is available for private non-profit organizations that provide essential services of a governmental nature in those municipalities.

The Public Assistance number assigned to Puerto Rico is P06308.

All other information remains the same, i.e., the deadline for filing applications for physical damage is November 22, 2004 and for economic injury the deadline is June 21, 2005.

(Catalog of Federal Domestic Assistance Program Nos. 59002 and 59008.)
Dated: October 6, 2004.
Herbert L. Mitchell,
Associate Administrator for Disaster Assistance.

[FR Doc. 04-23140 Filed 10-14-04; 8:45 am]

BILLING CODE 8025-01-P